DEPARTMENT OF COMMERCE

International Trade Administration

[A-570-895]

Notice of Final Determination of Sales at Less Than Fair Value and Affirmative Final Determination of Critical Circumstances: Certain Crepe Paper From the People's Republic of China

AGENCY: Import Administration, International Trade Administration, Department of Commerce.

DATES: Effective Date: December 3, 2004.

FOR FURTHER INFORMATION CONTACT: Alex Villanueva at (202) 482-3208 or Hallie Noel Zink at (202) 482-6907; AD/CVD Operations, Office 9, Import Administration, International Trade Administration, U.S. Department of Commerce, 14th Street and Constitution Avenue, NW., Washington, DC 20230.

SUPPLEMENTARY INFORMATION:

Case History

The preliminary determination in this investigation was published on September 21, 2004. See Notice of Preliminary Determination of Sales at Less Than Fair Value: Certain Tissue Paper Products and Certain Crepe Paper Products From The People's Republic of China, 69 FR 56407 (September 21, 2004) (“Preliminary Determination”). Since the publication of the Preliminary Determination, the following events have occurred.

On October 21, 2004 Fujian Xinjifu Enterprises Co. Ltd. (“Fujian Xinjifu”) submitted to the Department a letter confirming their decision not to participate in the verification of its Section A response in the above-referenced investigation.

On October 26, 2004 the Department notified all interested parties that briefs for the final determination in this investigation were due on November 1, 2004 and that rebuttal briefs were to be submitted by November 8, 2004. The Department did not receive either briefs or rebuttal briefs from any interested parties. See Preliminary Determination for a history of all previous comments submitted in this case.

Scope of Investigation

Crepe paper products subject to this investigation have a basis weight not exceeding 29 grams per square meter prior to being creped and, if appropriate, flame-proofed. Crepe paper has a finely wrinkled surface texture and typically but not exclusively is treated to be flame-retardant. Crepe paper is typically but not exclusively produced as streamers in roll form and packaged in plastic bags. Crepe paper may or may not be bleached, dye-colored, surface-colored, surface decorated or printed, glazed, sequined, embossed, die-cut, and/or flame-retardant. Subject crepe paper may be rolled, flat or folded, and may be packaged by banding or wrapping with paper, by placing in plastic bags, and/or by placing in boxes for distribution and use by the ultimate consumer. Packages of crepe paper subject to this investigation may consist solely of crepe paper of one color and/or style, or may contain multiple colors and/or styles.

The merchandise subject to this investigation does not have specific classification numbers assigned to it under the Harmonized Tariff System of the United States (“HTSUS”). Subject merchandise may be under one or more of several different HTSUS subheadings, including: 4802.30; 4802.54; 4802.61; 4802.62; 4802.69; 4804.39; 4806.40; 4808.30; 4808.90; 4811.90; 4818.90; 4823.90; 9505.90.40. The tariff classifications are provided for convenience and customs purposes; however, the written description of the scope of this investigation is dispositive.

Period of Investigation (“POI”)

The POI is July 1, 2003, through December 31, 2003. This period corresponds to the two most recent fiscal quarters prior to the month of the filing of the Petition (February 17, 2004). See 19 CFR 351.204(b)(1).

Facts Available

In the Preliminary Determination, we based the dumping margin for the mandatory respondents, Fuzhou Light Industry Import and Export Co., Ltd (“Fuzhou Light”) and Fuzhou Magicpro Gifts Co., Ltd. (“Magicpro”), on adverse facts available pursuant to sections 776(a)(2) and (b) of the Tariff Act of 1930, as amended (“the Act”). See Preliminary Determination, 69 FR at 56412. The use of adverse facts available was warranted in this investigation because both Fuzhou Light and Magicpro informed the Department that they no longer wished to participate in this investigation. Id. Fuzhou Light and Magicpro's withdrawal resulted in the failure to provide information by the deadline or in the form or manner requested and, therefore, the Department used facts otherwise available pursuant to section 776(a)(2) of the Act in reaching the applicable determination. Furthermore, Fuzhou Light's and Magicpro's withdrawals constituted failures to cooperate to the best of their ability in the investigation and, therefore, the Department applied an adverse inference pursuant to section 776(b) of the Act in selecting from the facts available. As adverse facts available, we assigned Fuzhou Light and Magicpro the People's Republic of China (“PRC”)-wide rate. Id. A complete explanation of the selection, corroboration, and application of adverse facts available can be found in the Preliminary Determination. See Preliminary Determination, 69 FR at 56412-56414. Since the publication of the Preliminary Determination, no interested parties have commented on our application of adverse facts available to the mandatory respondents with respect to the Preliminary Determination. Accordingly, for the final determination, we continue to use the margin listed in the Preliminary Determination, for the reasons stated therein. The “PRC-wide” rate remains unchanged as well.

The Department explained in the Preliminary Determination that there were no other estimated margins available for the Section A respondents, apart from the single price-to-normal value dumping margin in the petition. Therefore, we applied the petition margin of 266.83 percent as the rate for the crepe paper Section A respondents. See Preliminary Determination, 69 FR at 56414. No interested parties commented on our application of the petition margin to the crepe paper Section A respondents. As a result, we continue to use the margin listed in the Preliminary Determination, for the reasons stated therein.

As noted above, Fujian Xinjifu did not participate in the verification of its Section A response. As a result, Fujian Xinjifu has not overcome the presumption that it is part of the PRC-wide entity and, therefore, will be subject to the PRC-wide rate. See Memorandum to the File, dated October 22, 2004. The Department did not verify the responses of the other Section A respondents, Everlasting Business and Industry Co. Ltd., Fujian Nanping Investment and Enterprise Co., Ltd., and Ningbo Spring Stationary Co., Ltd. Nevertheless, the Department continues to grant a separate rate to each of these Section A respondents because determining otherwise would hold them accountable for the Department's inability to verify them. Specifically, the Department intended to verify the three largest respondents, by volume, in this investigation, Fuzhou Light and Magicpro, the mandatory respondents, and Fujian Xinjifu, the largest Section A respondent. As stated above, the mandatory respondents withdrew their participation in the investigation, and Fujian Xinjifu declined to participate in verification. Fujian Xinjifu's letter declining participation in verification came shortly before verification was scheduled to begin, which prevented the Department from scheduling verification of any of the three remaining Section A respondents. In light of these circumstances, and the fact that no information has been presented to cast doubt on the veracity of the responses of the Section A respondents, the Department determines that the three remaining Section A respondents continue to be entitled to separate rates. As stated above, the separate rate for each of the Section A respondents remains equal to the petition margin of 266.83 percent, as in the Preliminary Determination.

Critical Circumstances

On June 18, 2004 Seaman Paper Company of Massachusetts, Inc.; American Crepe Corporation; Eagle Tissue LLC; Garlock Printing and Converting, Inc.; and the Paper, Allied-Industrial, Chemical and Energy Workers International Union AFL-CIO, CLC (“Petitioners”) submitted an allegation of critical circumstances with respect to the antidumping duty investigation of certain crepe paper from the PRC. On September 21, 2004, the Department issued its Preliminary Determination that it had reason to believe or suspect critical circumstances exist with respect to imports of certain crepe paper from the PRC. See Preliminary Determination, 69 FR at 56409 and 56417-56418. The Department did not receive any briefs or rebuttal briefs from interested parties. Therefore, for the reasons set forth in the Preliminary Determination, we continue to find that critical circumstances exist for all imports of certain crepe paper from the PRC including imports from the mandatory respondents, the Section A respondents and the PRC-wide entity.

Continuation of Suspension of Liquidation

In accordance with section 735(c)(1)(B) of the Act, we are directing U.S. Customs and Border Protection (“CBP”) to continue to suspend liquidation of all entries of crepe paper from the PRC that are entered, or withdrawn from warehouse, for consumption on or after 90 days before the date of publication of the Preliminary Determination. CBP shall continue to require a cash deposit or posting of a bond equal to the estimated amount by which the normal value exceeds the U.S. price as shown below. These suspension of liquidation instructions will remain in effect until further notice.

We determine that the following dumping margins exist for the POI:

Manufacturer/exporter | Margin (percent)
Fuzhou Light | 266.83
Magicpro | 266.83
Everlasting Business and Industry Co. Ltd | 266.83
Fujian Nanping Investment and Enterprise Co., Ltd | 266.83
Ningbo Spring Stationary Co., Ltd | 266.83
PRC-Wide Rate | 266.83

International Trade Commission Notification

In accordance with section 735(d) of the Act, we have notified the International Trade Commission (ITC) of our determination. The ITC will determine, within 45 days, whether imports of subject merchandise from the PRC are causing material injury, or threaten material injury, to an industry in the United States. If the ITC determines that material injury or threat of injury does not exist, this proceeding will be terminated and all securities posted will be refunded or canceled. If the ITC determines that such injury does exist, the Department will issue an antidumping duty order directing CBP officials to assess antidumping duties on all imports of the subject merchandise entered, or withdrawn from warehouse, for consumption on or after the effective date of the suspension of liquidation.

This notice also serves as a reminder to parties subject to Administrative Protective Order (“APO”) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

James J. Jochum,
Assistant Secretary for Import Administration.

[FR Doc. E4-3458 Filed 12-2-04; 8:45 am]

BILLING CODE 3510-DS-P